DEPARTMENT OF COMMERCE

National Oceanic and Atmospheric Administration

RIN 0648-XG154

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold public meetings of the Council in conjunction with the Atlantic States Marine Fisheries Commission.

DATES: The meeting will be held on Monday, April 30, 2018, from 10 a.m. to 4:45 p.m. For agenda details, see SUPPLEMENTARY INFORMATION.

ADDRESSES:

Meeting address: The meeting will be held at The Westin Crystal City, 1800 S. Eads Street, Arlington, VA 22202, telephone: (888) 627-8209.

Council address: Mid-Atlantic Fishery Management Council, 800 N. State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The following items are on the agenda, though agenda items may be addressed out of order (changes will be noted on the Council's website when possible).

Agenda

Monday, April 30, 2018, 10 a.m. to 12 p.m.

Summer Flounder Amendment

Consider approval of the Summer Flounder Commercial Issues Amendment draft public hearing document

Monday, April 30, 2018, 1 p.m. to 3 p.m.

Summer Flounder, Scup, and Black Sea Bass Recreational Issues

Review alternatives for Summer Flounder, Scup, and Black Sea Bass Framework/Addendum on recreational issues; Review Black Sea Bass February Recreational Fishery Harvest

Monday, April 30, 2018, 3:15 p.m. to 4:45 p.m.

Bluefish Amendment

Review and consider approval of Public Information Document/Scoping Document for Allocation Amendment

Special Accommodations

This meeting is physically accessible to people with disabilities. Requests for sign language interpretation or other auxiliary aids should be directed to M. Jan Saunders, (302) 526-5251, at least 5 days prior to the meeting date.

Dated: April 6, 2018.
Tracey L. Thompson,
Acting Deputy Director, Office of Sustainable Fisheries, National Marine Fisheries Service.

[FR Doc. 2018-07471 Filed 4-10-18; 8:45 am]

BILLING CODE 3510-22-P